ENVIRONMENTAL PROTECTION AGENCY

[EPA-HQ-OAR-2012-0375, FRL-9715-7]

Protection of Stratospheric Ozone: Request for Methyl Bromide Critical Use Exemption Applications for 2015, Deadline Extension

AGENCY: Environmental Protection Agency (EPA).

ACTION: Extension to submittal date for applications.

SUMMARY: On May 17, 2012, the EPA published a notice in the Federal Register requesting applications for the Critical Use Exemption from the phaseout of methyl bromide for 2015. On August 3, 2012, EPA received a letter from methyl bromide stakeholders requesting an extension to the August 15, 2012 deadline for submitting Critical Use Exemption applications. The letter requested a deadline of August 29, 2012. The letter explained that additional time is needed by the stakeholders to complete their Critical Use Exemption applications, citing recent industry involvement with associated international meetings as impeding their ability to devote adequate time to the application process. EPA believes that the requested extension is reasonable, and is granting the extension to all applicants. Critical Use Exemption Applications for 2015 are now due to the agency on or before August 29, 2012. A copy of the August 3, 2012 letter to the agency is available in the EPA Docket.

DATES: Applications for the 2015 Critical Use Exemption must be postmarked on or before August 29, 2012.

ADDRESSES: EPA encourages users to submit their applications electronically to Jeremy Arling, Stratospheric Protection Division, at arling.jeremy@epa.gov. If the application is submitted electronically, applicants must fax a signed copy of Worksheet 1 to 202-343-9055 by the application deadline. Applications for the methyl bromide critical use exemption can also be submitted by U.S. mail to: U.S. Environmental Protection Agency, Office of Air and Radiation, Stratospheric Protection Division, Attention Methyl Bromide Team, Mail Code 6205J, 1200 Pennsylvania Ave. NW., Washington, DC 20460 or by courier delivery to: U.S. Environmental Protection Agency, Office of Air and Radiation, Stratospheric Protection Division, Attention Methyl Bromide Review Team, 1310 L St. NW., Room 1047E, Washington, DC 20005.

FOR FURTHER INFORMATION CONTACT: General Information: U.S. EPA Stratospheric Ozone Information Hotline, 1-800-296-1996; also http://www.epa.gov/ozone/mbr.

Technical Information: Bill Chism, U.S. Environmental Protection Agency, Office of Pesticide Programs (7503P), 1200 Pennsylvania Ave. NW., Washington, DC 20460, 703-308-8136. Email: chism.bill@epa.gov.

Regulatory Information: Jeremy Arling, U.S. Environmental Protection Agency, Stratospheric Protection Division (6205J), 1200 Pennsylvania Ave., NW., Washington, DC 20460, 202-343-9055. Email: arling.jeremy@epa.gov.

EPA Docket: The docket can be accessed at the http://www.regulations.gov site. To obtain copies of materials in hard copy, please email the EPA Docket Center: a-and-r-docket@epa.gov. The Docket ID No. for Critical Use Exemption Applications for 2015 is: EPA-HQ-OAR-2012-0375.

Sarah Dunham,
Director, Office of Atmospheric Programs.

[FR Doc. 2012-19788 Filed 8-10-12; 8:45 am]

BILLING CODE 6560-50-P